DEPARTMENT OF THE INTERIOR

National Park Service

[2253-665]

Notice of Inventory Completion: University of Wyoming, Anthropology Department, Human Remains Repository, Laramie, WY

AGENCY: National Park Service, Interior.

ACTION: Notice.

Notice is here given in accordance with the Native American Graves Protection and Repatriation Act (NAGPRA), 25 U.S.C. 3003, of the completion of an inventory of human remains in the possession and control of the University of Wyoming Anthropology Department, Human Remains Repository, Laramie, WY. The human remains were removed from the east side of the Big Horn Mountains in the Buffalo-Sheridan area from unknown status lands in Wyoming.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by University of Wyoming, Anthropology Department, Human Remains Repository, professional staff in consultation with representatives of the Crow Tribe of Montana.

In the 1960s or 1970s, human remains representing one individual were removed from beneath a tree scaffold burial by a private individual from the east side of the Big Horn Mountains in the Buffalo-Sheridan area from unknown status lands in Wyoming. The remains were sent to the University of Wyoming in the mid-1980s and have been at the University of Wyoming since that time (HR218d). No known individual was identified. No associated funerary objects are present.

Notes transferred with the human remains indicate that the burial was that of a Crow individual and probably dates after the 1870s. The University of Wyoming, Anthropology Department, Human Remains Repository, determined that the human remains are Native American based on the notes that accompanied the transfer. Based on the notes and the burial location, officials of the Human Remains Repository reasonably believe that the remains represent an individual related to the Crow Tribe of Montana. The Crow Tribe presented evidence that showed the burial location is within their tribal homeland as defined by the Treaty of Fort Laramie (1851), Indian Claims Commission (3 Ind. Cls. Comm. 147), and U.S. Court of Claims (284 F.2c 361 (1960)).

Officials of the University of Wyoming, Anthropology Department, Human Remains Repository, have determined, pursuant to 25 U.S.C. 3001(9), that the human remains described above represent the physical remains of one individual of Native American ancestry. Officials of the University of Wyoming, Anthropology Department, Human Remains Repository, have also determined, pursuant to 25 U.S.C. 3001(2), that there is a relationship of shared group identity that can be reasonably traced between the Native American human remains and the Crow Tribe of Montana.

Representatives of any other Indian tribe that believes itself to be culturally affiliated with the human remains should contact Rick L. Weathermon, NAGPRA Contact at the University of Wyoming, Department 3431, Anthropology, 1000 E. University Ave., Laramie, WY 82071, telephone (307) 766-5136, before April 14, 2011. Repatriation of the human remains to the Crow Tribe of Montana may proceed after that date if no additional claimants come forward.

The University of Wyoming Anthropology Department, Human Remains Repository, is responsible for notifying the Crow Tribe of Montana that this notice has been published.

Dated: March 9, 2011.
Sherry Hutt,
Manager, National NAGPRA Program.

[FR Doc. 2011-5863 Filed 3-14-11; 8:45 am]

BILLING CODE 4312-50-P